SMALL BUSINESS ADMINISTRATION

Wisconsin District Advisory Council; Public Meeting

The U.S. Small Business Administration Wisconsin District Advisory Council will hold a public meeting on Wednesday, February, 20, 2002 from 12 noon to 1 pm at the MMAC Building Milwaukee, Wisconsin to discuss such matters as may be presented by members, staff of the U.S. Small Business Administration, or others present.

Anyone wishing to make an oral presentation to the Board must contact Yolanda Staples-Lassiter, in writing by letter of fax no later than February 14, 2002 in order to be included on the agenda. Ms. Lassister can be contacted at (414) 297-1090 phone, (414) 297-3941 fax. For further information, please write or call Yolanda Staples-Lassiter, U. S. Small Business Administration, 310 West Wisconsin Ave, suite 400, Milwaukee, Wisconsin 53202, Telephone number (414) 297-1090.

Steve Tupper,
Committee Management Office.

[FR Doc. 02-3133 Filed 2-7-02; 8:45 am]

BILLING CODE 8025-01-P